DEPARTMENT OF COMMERCE

National Oceanic and Atmospheric Administration

RIN 0648-XB05

Endangered and Threatened Species; Take of Anadromous Fish

AGENCY: National Marine Fisheries Service (NMFS), National Oceanic and Atmospheric Administration (NOAA), Commerce.

ACTION: Notice of availability and request for comment.

SUMMARY: Notice is hereby given that NMFS has received updated Fishery Management and Evaluation Plans (FMEPs) from the Oregon Department of Fish and Wildlife (ODFW) pursuant to the protective regulations promulgated for Middle Columbia River (MCR) steelhead (Oncorhynchus mykiss) under the Endangered Species Act. The FMEPs, together with an FMEP submitted previously by the Washington Department of Fish and Wildlife (WDFW), specify the future management of inland recreational fisheries potentially affecting MCR steelhead. Notice is also hereby given that a draft Environmental Assessment (EA) for tributary fisheries affecting MCR steelhead in Oregon and Washington has been drafted by NMFS. The EA analyzes the impacts of NMFS' approval or disapproval of the proposed tributary fisheries for steelhead, trout, and other species in the MCR steelhead distinct population segment (DPS). This document serves to notify the public of the availability of the FMEPs and the EA for review and comment before final approval or disapproval is made by NMFS.

DATES: Written comments on the application and draft EA must be received at the appropriate address or fax number (see ADDRESSES) no later than 5 p.m. Pacific daylight time on July 30, 2007.

ADDRESSES: Written comments on the application should be sent to Rich Turner, National Marine Fisheries Services, Salmon Recovery Division, 1201 N.E. Lloyd Boulevard, Suite 1100, Portland, OR 97232. Comments may also be submitted by e-mail to: steelheadFMEP.nwr@noaa.gov. Include in the subject line of the e-mail comment the following identifier: Comments on the Middle Columbia steelhead FMEPs. Comments may also be sent via facsimile (fax) to (503) 872-2737. Requests for copies of the permit application should be directed to the National Marine Fisheries Services, Salmon Recovery Division, 1201 N.E. Lloyd Boulevard, Suite 1100, Portland, OR 97232. The documents are also available on the Internet at www.nwr.noaa.gov. Comments received will also be available for public inspection, by appointment, during normal business hours by calling (503) 230-5418.

FOR FURTHER INFORMATION CONTACT: Rich Turner at (503) 736-4737 or e-mail: rich.turner@noaa.gov.

SUPPLEMENTARY INFORMATION: This notice is relevant to the following species and distinct population segments (DPSs):

Steelhead (Oncorhynchus mykiss): threatened, Middle Columbia River.

Background

Section 9 of the ESA and Federal regulations prohibit the “taking” of a species listed as endangered or threatened. The term “take” is defined under the ESA to mean harass, harm, pursue, hunt, shoot, wound, kill, trap, capture, or collect, or to attempt to engage in any such conduct. As specified in the July 10, 2000, ESA 4(d) rule for salmon and steelhead (65 FR 42422), as updated in 71 FR 834, January 5, 2006, NMFS may approve an FMEP if it meets criteria set forth in 50 CFR 223.203(b)(4)(i)(A) through (I), thereby limiting the application of take prohibitions to actions described in that FMEP. Prior to final approval of an FMEP, NMFS must publish notification announcing its availability for public review and comment.

The ODFW had previously submitted FMEPs to NMFS for fisheries in the Middle Columbia region, and those FMEPs were made available for public review on May 4, 2001 (66 FR 22532). Due to comments received regarding a proposed consumptive fishery on natural-origin steelhead in the John Day River basin and concerns with the critical and viable abundance thresholds proposed within the ODFW FMEPs, the FMEPs were not approved by NMFS. To address these concerns, the FMEPs were updated and resubmitted to NMFS for approval in 2005. The FMEPs submitted to NMFS by the ODFW include plans addressing recreational fisheries in the Deschutes River basin, the Umatilla River basin, the John Day River basin, and the Walla Walla River basin in Oregon. These FMEPs include fisheries occurring in all Oregon tributaries to the Middle Columbia River from Chenoweth Creek upstream to and including the Oregon portion of the Walla Walla River. The WDFW submitted an FMEP to NMFS in 2003 that was made available for public comment on July 1, 2003 (68 FR 39066). This FMEP covers steelhead, trout, and warmwater fisheries in Washington tributaries to the Middle Columbia River from the Klickitat River upstream to the Yakima and Walla Walla rivers, excluding the Snake River.

The objective of the fisheries described in the five FMEPs is to harvest known hatchery-origin summer steelhead and other fish species in a manner that does not appreciably reduce the survival and recovery of the listed MCR steelhead DPS. All fisheries included in these FMEPs will be managed such that only hatchery-origin steelhead that are adipose fin clipped may be retained. Impact levels on listed MCR steelhead are specified in all five FMEPs. Population viability analysis and risk assessments in the FMEPs indicate that the extinction risk for listed steelhead would not increase appreciably as a result of the proposed fishery impact levels. A variety of monitoring and evaluation tasks are specified in the FMEPs to assess the abundance of steelhead, determine fishery effort and catch of steelhead, and monitor angler compliance. A review of compliance with the provisions of the FMEPs will be conducted by the state fisheries agencies annually and a comprehensive review to evaluate the effectiveness of the FMEPs will occur at a minimum every 5 years.

As specified in the July 10, 2000 ESA 4(d) rule for salmon and steelhead (65 FR 42422) as updated on January 5, 2006 (71 FR 834), NMFS may approve an FMEP if it meets criteria set forth in 50 CFR 223.203(b)(4)(i)(A) through (I). Prior to final approval of an FMEP, NMFS must publish notification announcing its availability for public review and comment.

The draft EA analyzes impacts of NMFS' approval or disapproval of the four FMEPs re-submitted by ODFW listed above, and the FMEP for the Middle Columbia region submitted to NMFS by the WDFW.

The National Environmental Policy Act (NEPA) requires that Federal agencies conduct and environmental analysis of their actions to determine if the actions may affect the human environment. Accordingly, NMFS has prepared a draft EA that analyzes the impacts of the approval or disapproval of the six FMEPs, and is making it available for public review and comment. The draft EA analyzes two alternatives: (1) No Action (NMFS does not approve the FMEPs as qualifying for limitation on take prohibitions under the ESA 4(d) rule); and (2) the Proposed Action Alternative (NMFS's approval of the FMEPs pursuant to Limit 4 of the ESA 4(d) rule).

NEPA requires Federal agencies to conduct an environmental analysis of their proposed actions to determine if the actions may affect the human environment. NMFS expects to take action on the five submittals from the ODFW and WDFW. Therefore, NMFS is seeking public input on the scope of the required NEPA analysis, including the range of reasonable alternatives and associated impacts of any alternatives.

This notice is provided pursuant to the NEPA regulations (40 CFR 1506.6). The final NEPA determination will not be completed until after the end of the 30-day comment period and after NMFS has fully considered all comments received during the public comment period.

Authority

Under section 4 of the ESA, the Secretary of Commerce is required to adopt such regulations as he deems necessary and advisable for the conservation of species listed as threatened. The ESA salmon and steelhead 4(d) rule (65 FR 42422, July 10, 2000, as updated in 71 FR 834, January 5, 2006) specifies categories of activities that contribute to the conservation of listed salmonids and sets out the criteria for such activities.

The rule further provides that the prohibitions of paragraph (a) of the rule do not apply to activities associated with fishery harvest provided that an FMEP has been approved by NMFS to be in accordance with the salmon and steelhead 4(d) rule.

NEPA authorization: 16 U.S.C. 1531 et seq.

Dated: June 25, 2007.
Angela Somma,
Chief, Endangered Species Division, Office of Protected Resources, National Marine Fisheries Service.

[FR Doc. E7-12654 Filed 6-28-07; 8:45 am]

BILLING CODE 3510-22-S